DEPARTMENT OF COMMERCE

Foreign-Trade Zones Board

[Docket 9-2001]

Proposed Foreign-Trade Zone Butte County, California; Amendment of Application

Notice is hereby given that the application of the Oroville Economic Development Corporation, a non-profit corporation, to establish a general-purpose foreign-trade zone at sites in southern Butte County, California (Doc. 9-2001, 66 FR 10668, 2/16/01), has been amended to delete Site 4 (9 acres), located in Gridley. The application otherwise remains unchanged.

Dated: August 21, 2001.
Dennis Puccinelli,
Executive Secretary.

[FR Doc. 01-21711 Filed 8-27-01; 8:45 am]

BILLING CODE 3510-DS-M